DEPARTMENT OF AGRICULTURE

Forest Service

Oregon Coast Provincial Advisory Committee

AGENCY: Forest Service, USDA.

ACTION: Notice of meeting.

SUMMARY: The Oregon Coast Province Advisory Committee will meet at the Grand Ronde Tribal Office. The agenda includes: Stimulus Project Update, Secure Rural Schools Update, Travel Management Update, Spotted Owl Plan Update, Round Robin, WOPR Update and Public Comments.

DATES: The meeting will be held June 18, 2009, beginning at 9:30 a.m.

ADDRESSES: Adult Educational Building, 9615 Grand Ronde Road, Grand Ronde, OR 07347. Google Map will put you in the correct parking lot.

FOR FURTHER INFORMATION CONTACT: Joni Quarnstrom, Public Affairs Specialist, Siuslaw National Forest, 541-750-7075, or write to Siuslaw National Forest Supervisor, 4077 SW. Research Way, Corvallis, OR 97339.

SUPPLEMENTARY INFORMATION: The meeting is open to the public. Council Discussion is limited to Forest Service/BLM staff and Council Members. Lunch will be on your own. A public input session will be at 2:45 p.m. for fifteen minutes. The meeting is expected to adjourn around 3 p.m.

Dated: June 3, 2009.
Joni Quarnstrom,
Public Affairs Specialist.

[FR Doc. E9-13583 Filed 6-10-09; 8:45 am]

BILLING CODE M